DEPARTMENT OF ENERGY

Federal Energy Regulatory Commission

[Docket No. CP11-22-000]

Tennessee Gas Pipeline Company; Notice of Application

November 18, 2010.

Take notice that on November 5, 2010 Tennessee Gas Pipeline Company (Tennessee), 1001 Louisiana Street, Houston, Texas 77002, filed in Docket No. CP11-22-000, an application pursuant to section 3 of the Natural Gas Act (NGA), to amend its authorization under NGA section 3 and Presidential Permits to allow it to import and export natural gas from the United States to Canada utilizing Tennessee's existing cross-border facilities. Specifically, Tennessee proposes that its Presidential Permits be amended and reissued, and authorizations under Section 3 of the NGA be amended to authorize Tennessee to operate bi-directionally two existing international border crossings between Canada and the United States located near Niagara Falls, New York. Tennessee proposes no new facilities, all as more fully set forth in the application which is on file with the Commission and open to public inspection. This filing may also be viewed on the Commission's Web site at http://www.ferc.gov using the “eLibrary” link. Enter the docket number, excluding the last three digits, in the docket number field to access the document. For assistance, call (202) 502-8659 or TTY, (202) 208-3676.

Any questions regarding this application should be directed to Mr. Thomas Joyce, Manager, Certificates, Tennessee Gas Pipeline Company, 1001 Louisiana Street, Houston, Texas 77002, phone (713) 420-3299 or facsimile (713) 420-1605 or e-mail tom.joyce@elpaso.com.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Motions to intervene, protests and comments may be filed electronically via the Internet in lieu of paper; see, 18 CFR 385.2001(a)(1)(iii) and the instructions on the Commission's Web site under the “e-Filing” link. The Commission strongly encourages electronic filings.

Comment Date: December 9, 2010.

Kimberly D. Bose,
Secretary.

[FR Doc. 2010-29846 Filed 11-26-10; 8:45 am]

BILLING CODE 6717-01-P